DEPARTMENT OF COMMERCE

Foreign-Trade Zones Board

[S-88-2017]

Foreign-Trade Zone 127—West Columbia, South Carolina; Application for Subzone; BGM America, Inc.; Marion, South Carolina

An application has been submitted to the Foreign-Trade Zones (FTZ) Board by the Richland-Lexington Airport District, grantee of FTZ 127, requesting subzone status for the facility of BGM America, Inc., located in Marion, South Carolina. The application was submitted pursuant to the provisions of the Foreign-Trade Zones Act, as amended (19 U.S.C. 81a-81u), and the regulations of the FTZ Board (15 CFR part 400). It was formally docketed on June 13, 2017.

The proposed subzone would consist of the following site: 1313 West Highway 76, Marion (40 acres). No authorization for production activity has been requested at this time. The proposed subzone would be subject to the existing activation limit of FTZ 127.

In accordance with the FTZ Board's regulations, Qahira El-Amin of the FTZ Staff is designated examiner to review the application and make recommendations to the Executive Secretary.

Public comment is invited from interested parties. Submissions shall be addressed to the FTZ Board's Executive Secretary at the address below. The closing period for their receipt is August 14, 2017. Rebuttal comments in response to material submitted during the foregoing period may be submitted during the subsequent 15-day period to August 28, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Qahira El-Amin at Qahira.El-Amin@trade.gov or (202) 482-5928.

Dated: June 27, 2017.
Elizabeth Whiteman,
Acting Executive Secretary.

[FR Doc. 2017-13944 Filed 6-30-17; 8:45 am]

BILLING CODE 3510-DS-P